DEPARTMENT OF JUSTICE

Bureau of Alcohol, Tobacco, Firearms and Explosives

[OMB Number 1140-0073]

Agency Information Collection Activities; Proposed eCollection eComments Requested; Revision of a Currently Approved Collection; Furnishing of Samples

AGENCY: Bureau of Alcohol, Tobacco, Firearms and Explosives, Department of Justice.

ACTION: 60-Day notice.

SUMMARY: The Department of Justice (DOJ), Bureau of Alcohol, Tobacco, Firearms and Explosives (ATF), will submit the following information collection request to the Office of Management and Budget (OMB) for review and approval in accordance with the Paperwork Reduction Act of 1995. The proposed collection OMB 1140-0073 (Furnishing of Samples) is being revised due to a change in burden, since there is a reduction in both the total responses and total burden hours due to less respondents, since the last renewal in 2016.

DATES: Comments are encouraged and will be accepted for 60 days until April 8, 2019.

FOR FURTHER INFORMATION CONTACT: If you have additional comments, regarding the estimated public burden or associated response time, suggestions, or need a copy of the proposed information collection instrument with instructions, or additional information, please contact: Anita Scheddel, Program Analyst, Explosives Industry Programs Branch, either by mail 99 New York Ave. NE, Washington, DC 20226, or by email at eipb-informationcollection@atf.gov or by telephone at 202-648-7158.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection (check justification or form 83): Revision of a currently approved collection.

(2) The Title of the Form/Collection: Furnishing of Samples.

(3) The agency form number, if any, and the applicable component of the Department sponsoring the collection:

Form number (if applicable): None.

Component: Bureau of Alcohol, Tobacco, Firearms and Explosives, U.S. Department of Justice.

(4) Affected public who will be asked or required to respond, as well as a brief abstract:

Primary: Business or other for-profits.

Other (if applicable): None.

Abstract: Pursuant to 18 U.S.C. Chapter 40 § 843 (i) (1), ATF requires licensed manufacturers and importers and persons who manufacture or import explosives materials or ammonium nitrate to submit samples at the request of the Director. This collection of information is contained in 27 CFR 555.110.

(5) An estimate of the total number of respondents and the amount of time estimated for an average respondent to respond: An estimated 100 respondents will utilize this information collection, and it will take each respondent approximately 30 minutes to provide their response.

(6) An estimate of the total public burden (in hours) associated with the collection: The estimated annual public burden associated with this collection is 50 hours, which is equal to 100 (# of respondents) * 1 (# of responses per respondents) * .5 (30 minutes).

(7) An Explanation of the Change in Estimates: The adjustments associated with this collection from the previous renewal include a reduction in the total respondents and burden hours by 2,250 and 1,125 hours respectively, since the previous renewal in 2016.

If additional information is required contact: Melody Braswell, Department Clearance Officer, United States Department of Justice, Justice Management Division, Policy and Planning Staff, Two Constitution Square, 145 N Street NE, 3E.405A, Washington, DC 20530.

Dated: January 31, 2019.
Melody Braswell,
Department Clearance Officer for PRA, U.S. Department of Justice.

[FR Doc. 2019-01048 Filed 2-4-19; 8:45 am]

BILLING CODE 4410-14-P